DEPARTMENT OF LABOR

Employment and Training Administration

Workforce Security Programs: Unemployment Insurance Program Letter Interpreting Federal Law

The Employment and Training Administration interprets federal law requirements pertaining to unemployment compensation (UC). These interpretations are issued in Unemployment Insurance Programs Letters (UIPLs) to State Workforce Agencies. The UIPL described below is published in the Federal Register in order to inform the public.

UIPL 30-02, Changes 2 and 3

UIPL 30-02, Changes 2 and 3 and their attachments provide the states with the requirements of the Temporary Extended Unemployment Compensation (TEUC) Act of 2002, as deemed amended by Section 4002 of Public Law 108-11, as operating instructions and responses to questions pertaining to the TEUC available to certain displaced airline and airline related workers.

Dated: June 5, 2003.
Emily Stover DeRocco,
Assistant Secretary.

Employment and Training Administration Advisory System

U.S. Department of Labor, Washington, DC 20210

Classification: OWS

Correspondence Symbol: DUIO

Date: April 25, 2003

Advisory: Unemployment Insurance Program Letter No. 30-02, Change 2.

To: All State Workforce Agencies.

From: Cheryl Atkinson s/s, Administrator, Office of Workforce Security.

Subject: Temporary Extended Unemployment Compensation (TEUC) Act of 2002—Additional TEUC for Displaced Airline and Related Workers.

1. Purpose. To provide State Workforce Agencies (SWAs) instructions for implementing the changes to the TEUC program related to displaced airline and related workers.

2. References. Title II of the Job Creation and Worker Assistance Act of 2002 (The Temporary Extended Unemployment Compensation Act of 2002), Public Law 107-147; Public Law 108-1; UIPL No. 30-02 dated July 5, 2002; UIPL No. 30-02, Change 1, dated January 9, 2003; Section 4002 of Public Law 108-11, signed by the President on April 16, 2003; Section 205 of the Federal-State Extended Unemployment Compensation Act of 1970, as amended; Section 233 of the Trade Act of 1974; 20 CFR Part 615; ET Handbook No. 401; ET Handbook No. 410.

3. Summary. Section 4002 of P.L. 108-11 creates special rules for determining TEUC eligibility for certain displaced airline and related workers, who were separated for one of the specified reasons from a qualifying base period employer on or after September 11, 2001. In brief, such workers will qualify for up to 39 weeks of basic TEUC (henceforth “TEUC-A”), plus up to 13 weeks of TEUC-X (henceforth “TEUC-AX”). TEUC-A is payable for weeks of unemployment beginning with the first week beginning after April 16, 2003, through the week ending no later than December 28, 2003. Individuals with TEUC-A or TEUC-AX balances remaining on December 28, 2003, can claim those balances during the transition period which ends with the last week that begins on or before December 26, 2004. TEUC-A claims cannot be augmented with TEUC-AX (that is, TEUC-AX entitlement cannot be established) during the transition period.

Rescissions: None

Expiration Date: Continuing

4. Summary of the New Provisions. For weeks of unemployment beginning after April 16, 2003, the new provisions (see Attachment A to this UIPL) do the following for displaced airline and related workers:

a. Prescribes that TEUC-A is payable and monetary determinations and redeterminations may be effective through the last week ending before December 29, 2003;

b. Prescribes a basic TEUC-A benefit amount that is the lesser of 150 percent of the maximum benefit amount (MBA) of regular benefits of the parent claim or 39 times the individual's average weekly benefit amount (AWBA);

c. Provides a TEUC-AX augmentation of ⅓ of the basic TEUC-A MBA for “eligible individuals.”

d. Provides a transition period during which benefits may be paid to each eligible individual who has “an amount remaining” in his/her TEUC-A or AX account as of December 28, 2003. The transition period ends with the last week beginning on or before December 26, 2004.

5. Interpretation. SWAs are required to continue to follow the Department of Labor's interpretation of the TEUC Act and the operating instructions previously published in UIPL No. 30-02, and UIPL No. 30-02, Change 1, to guide states in administering the TEUC program, except as changed by this advisory with respect to the determination of eligibility for “eligible individuals” as defined in Section 4002(a)(1) of Public Law 108-11.

These instructions are issued to the states and cooperating state agencies as guidance provided by the Department in its role as the principal in the TEUC program. As agents of the United States, the states and cooperating state agencies may not vary from the operating instructions without the prior approval of the Department. The interpretations and procedures issued in this document are in addition to those previously issued as UIPL No. 30-02, and UIPL No. 30-02, Change 1, and apply only with respect to the TEUC determination in accordance with the provisions of Public Law 108-11.

6. TEUC Agreements. TEUC, including TEUC-A, is administered through voluntary agreements between states and the Department of Labor. All states have agreements with the Secretary to administer the TEUC program under provisions of the TEUC Act. The existing agreements remain in effect, and no new agreements are necessary.

7. Notifications.

a. Identification and Notification of Potentially Eligible Claimants. Implementation of the requirements of Section 4002, Public Law 108-11, requires identification of each potentially “eligible individual,” including each interstate claimant. To satisfy this requirement, SWAs must send written notification to each individual who was laid-off from a base period employer on or after September 11, 2001. SWAs must send immediate written notification to each such individual who has exhausted all available TEUC benefits from the beginning of the TEUC program. (SWAs are not required to contact individuals whose separation was not due to a lay-off. As discussed in item 8.b. below, these individuals are not eligible for TEUC-A.) We provide the following draft notice:

Notice

Additional benefits are now available under the Temporary Emergency Unemployment Compensation program for unemployed airline and related workers.

If you are currently unemployed, you should contact us if you worked in an airline or related industry and you believe that you lost your job with a base period employer, at least partially, as a result of terrorist actions of September 11, 2001, as a result of security responses to these attacks or the closing of an airport, or as a result of the military conflict in Iraq.

Airline and related industries are: air carriers, businesses operating at an airport, businesses that perform additional, value-added production processes for air carriers or businesses providing products, supplies and services that are received or utilized by an airline.

To distribute the workload associated with making TEUC-A nonmonetary determinations and resulting monetary redeterminations, SWAs should consider staggering notifications to such individuals who are in current TEUC or TEUC-X benefit status, allowing sufficient time to determine whether or not the claimant is an “eligible individual” for TEUC-A purposes prior to exhaustion. The notification of claimants that are currently in regular, additional, or extended benefit (EB) status (under the permanent EB program) can be accomplished as a notice included with a TEUC monetary determination.

b. Notification of Media. To assure public knowledge of this special extension of the TEUC program for airline and related workers, the SWA must notify appropriate news media having coverage throughout the state and provide appropriate information on its website.

8. Qualifying Base Period Employment. Establishing base period employment as “qualifying employment” for TEUC-A purposes is three-fold. First, the employment must have occurred “in whole or in part” during the base period of the “applicable benefit year” for the TEUC-A claim. Second, the employment must be with the type of employer(s) or at the location specified below. Third, the separation from such employment, which may have occurred during the base period or later, must be “in whole or in part” due to a qualifying reason specified in ‘b’ below.

a. Qualifying Employment. To satisfy the requirement for “qualifying employment,” some base period employment must be with the type of employer(s) or at the location specified as follows:

(1) Air Carriers. Air carriers for purposes of TEUC-A are limited to those that hold a certificate issued under chapter 411 of title 49, United States Code, by the Federal Aviation Administration of the U.S. Department of Transportation. Certificates issued under this chapter include those issued for charter air carriers and all-cargo air carriers. Attachment C provides a listing of all such carriers.

(2) At a facility at an airport. A “facility at an airport” includes any employer that is physically located on the grounds of an airport such as:

• Retail food facilities such as restaurants, bars, fast-food shops, and popcorn stands.

• Other retail facilities such as gift shops, newsstands, clothing stores, and kiosks.

• Hotels located on the airport grounds.

• Aircraft maintenance and service facilities.

• Parking facilities.

• Car rental facilities.

• Any other business physically located on the airport grounds, regardless of its business activities.

A “facility at an airport” also includes any airline related business which, although offsite, provides functions that are integrally related to the operation of the airport. These include airport parking on privately owned land, car rental services, or aircraft maintenance and service facilities. Employment with the same employer at a facility that does not meet this definition of “facility at an airport” is not “qualifying employment” for purposes of TEUC-A.

(3) Supplier for an Air Carrier. A “supplier” is an employer that produces component parts for, or articles and contract services considered to be a part of the production process or services for, an air carrier or for another supplier or upstream producer whose supplies, products or services are received or utilized by an air carrier and used for airline industry purposes.

Example 1: A catering service that supplies an air carrier with food purchased from another firm is a supplier. The firm from which the food is purchased is also a supplier because it is supplying products to a supplier that are received by an air carrier.

Example 2: An employer manufactures commercial aircraft for air carriers and private aircraft for individuals and non-airline corporations. As a result of the terrorist action, the employer suffers a loss of business in its private aircraft business. It loses no sales to air carriers. The employer separates some workers, including those who manufactured commercial aircraft, because of the lost revenues. Even though the employer supplies air carriers and even though workers who worked on those supplies were separated, the separated workers are not eligible for TEUC-A because there is no loss in air carrier-related business.

Example 3: A janitorial company provides services for an aircraft manufacturer. It does not provide services to an air carrier. Due to a loss in air carrier business, the aircraft manufacturer no longer has a need for these janitorial services. As a result, the janitorial company separates several workers. Even though these workers were separated due to a loss of business by the aircraft manufacturer that could be traced back to the air carrier, they are not eligible for TEUC-A because they did not supply any item or service which was used or received by an air carrier. For eligibility, services must always extend to an air carrier.

Example 4: An accounting firm provides accounting services for a caterer to an air carrier. The air carrier goes out of business because of the terrorist action. The caterer closes because the air carrier was its sole customer. The caterer's closing causes the accounting firm to separate one of its employees who provided services for the caterer. That individual does not have “qualifying employment” because the accounting firm is not a “supplier” within the meaning of the statute. The accounting firm's service to the caterer did not extend to the air carrier.

(4) Upstream Producer for an Air Carrier. An “upstream producer” is an employer that “performs additional, value-added, production processes, including firms that perform final assembly, finishing, or packaging of articles, for another firm.”

We are not providing an example of an “upstream producer” because the definition of supplier appears to cover all entities eligible under the two definitions.

b. Qualifying Separations. To be in qualified employment the separation from base period employment must be due—in whole or in part—to one or more of the following reasons:

• Reductions in service by an air carrier as a result of the terrorist actions on September 11, 2001, or a security measure taken in response to such actions.

• A closure of an airport in the United States as a result of the terrorist actions on September 11, 2001, or a security measure taken in response to such actions.

• The military conflict with Iraq.

The separation from “qualifying employment” that establishes a claimant as an “eligible individual” may occur during the base period or lag period and does not have to be the most recent separation when the “applicable benefit year” was established.

A separation from lag period only employment with a qualified employer does not establish an individual as an “eligible individual.” Also, any separation from a qualified employer due to a voluntary quit or discharge for any reason is not a separation for a qualifying reason; the separation must be a “lack-of-work” separation due to one or more of the reasons stated above.

c. Determining Whether a Claimant Has “Qualifying Employment” and is an “Eligible Individual”. To determine if a claimant is an “eligible individual” for TEUC-A purposes, SWAs must determine if the claimant has “qualifying employment” during the base period of the “applicable benefit year” that was used in the monetary determination for regular benefits. In making this determination, SWAs will follow their usual fact-finding procedures. This will require the SWA to contact employers to determine if the employment was of the type, or performed at the location, specified above, and if the reason for separation was one of the reasons specified above. We have attached a sample form that SWAs may elect to use for this purpose. SWAs may use an altered design as long as the required information is solicited from the employer. Where, after reasonable efforts to obtain information from the employer, the SWA does not have sufficient information to make a determination, then SWAs should evaluate the claimant's statement and follow standard procedures for issuing nonmonetary determinations. SWAs will be expected to preserve all documents relating to the determination for audit purposes.

In the case of larger employers, it may be evident that the employer is an air carrier (based on the attached listing), another type of easily identifiable large employer, or a facility located at an airport; it will not be necessary to verify the nature of the base period employment in such cases. As a result, when such an employer is identified, SWAs are encouraged, in lieu of sending a form for each claimant, to contact the employer as soon as possible to obtain a listing of all individuals laid-off, in whole or in part, due to the reasons described above.

If the SWA determines that the claimant is not an “eligible individual” for TEUC-A purposes, an appealable nonmonetary determination must be issued.

9. Calculating Entitlement to TEUC-A and TEUC-AX. Once an individual has been identified as an “eligible individual” qualifying for TEUC-A, the SWA will issue a monetary determination (or redetermination as the case may be) establishing TEUC-A eligibility. Any TEUC-A balance will be payable only for weeks of unemployment beginning after April 16, 2003.

a. TEUC-A Entitlement. TEUC-A entitlement will equal the lesser of 150 percent of the MBA of regular benefits payable to the individual during the benefit year or 39 times the individual's AWBA payable during the benefit year for a week of total unemployment. If the state includes dependents' allowances in the calculation of the weekly benefit amount (WBA) for regular benefits, the same rule applies to the calculation of TEUC benefits. If the state calculates dependents' allowances separately from the WBA, the state will apply the same rule to the TEUC determination.

If an individual has already been paid TEUC or TEUC-X, the available TEUC-A balance will be reduced by the amount already paid in TEUC or TEUC-X benefits. Any TEUC-X previously paid is converted to TEUC-A and the TEUC-X determination is disregarded.

b. TEUC-AX Entitlement. The amount of TEUC-AX payable equals one-third of the TEUC-A entitlement. This means TEUC-AX is payable up to 13 times the WBA. Whether an individual qualifies for TEUC-AX will be determined by using the same criteria that apply to TEUC-X. Specifically, an individual must exhaust TEUC-A during an EB or TEUC-X period as authorized by the TEUC Act.

10. Transition Payments. TEUC-A and TEUC-AX continue to be payable to individuals with a balance in their TEUC account as of December 28, 2003, during the transition period which ends with the last week beginning on or before December 26, 2004.

11. Reporting TEUC-A and TEUC-AX Activity. TEUC-A and TEUC-AX activity is reportable under the existing TEUC reporting requirements for the ETA 207, ETA 218, ETA 227, ETA 539, ETA 2112, ETA 5130 and ETA 5159. Please note that form ETA 2112 has changed recently. Previously, TEUC payment totals had been reported on line 39. The totals are now reportable on line 41. For reporting purposes, no separation of TEUC-A and AX from other TEUC program activity is required, with the following exception: States are to report the total number of newly qualified TEUC-A claimants determined during the month in the comments section of the TEUC ETA 5159 report. This total should be the sum of new TEUC-A determinations for recent exhaustees (of regular, additional or extended benefits, as appropriate) plus the redeterminations of existing or previously exhausted TEUC/TEUC-X claims.

The separate financial status report (Standard Form 269) for administrative grants and costs associated with the TEUC program is to include costs associated with this extension related to displaced airline and related workers (TEUC-A and TEUC-AX).

12. Administrative Funding. The payment of TEUC-A and TEUC-AX will involve an increase in claims activity and one-time implementation costs.

a. Claims. The UI-3 report will compile workload data from the TEUC versions of the ETA 5159, ETA 207, and ETA 5130. In addition, SWAs should enter the number of monetary redeterminations in column (a) of line 12, and a minutes per unit value of 05.000 in column (b).

b. Implementation Supplemental Budget Requests (SBRs). SWAs may submit an SBR for reimbursement of TEUC-A implementation costs. SBRs should be limited to one-time costs for the items listed below that are attributable to implementation of TEUC-A:

(1) Forms and supplies (e.g., printed notices mailed to exhaustees)

(2) Computer programming

(3) Training and travel

(4) Public notices on television, radio, or in the newspapers

(5) Overhead related only to the above

Calculations for costs of SWA staff and contractors should be shown in accordance with the SBR instructions in ET Handbook No. 336. Costs for SWA staff should be included only if they are for overtime or if the positions were back-filled.

13. OMB Approval. The reporting instructions for the TEUC program have been approved by the Office of Management and Budget (OMB) under OMB Approval No. 1205-0433, expiration date December 31, 2004. However, OMB approval is being sought for approval of the burden hours associated with the request for employer information that is necessary for determining eligibility for TEUC-A. ETA will notify states upon OMB approval.

14. Action Required. Administrators are requested to provide this information and instructions to the appropriate staff.

15. Inquiries. Direct questions to the appropriate regional office.

16. Attachment A: Text of Section 4002, Public Law 108-11 ¹

¹ Attachment A is available in the www.workforcesecurity.doleta.gov Web site under Directives/Advisories.

Attachment B: Questions and Answers

Attachment C: List of Certified Air Carriers

Attachment D: Sample Employer Notice

Attachment B to UIPL No. 30-02, Change 2—Questions and Answers

1. Administrative

a. Question: Are new agreements between the state and the Department of Labor necessary for this extension?

Answer: No. The existing agreement remains in effect.

b. Question: What is the first week payable under this extension for TEUC-A?

Answer: The first week payable is the first week which begins after April 16, 2003.

c. Question: What is an “air carrier” for purposes of TEUC-A?

Answer: A qualifying air carrier is “an air carrier that holds a certificate issued under chapter 411 of title 49, U.S.C.” That section provides that an air carrier may provide air transportation only if it holds a certificate issued under chapter 411. Certificates may be issued for charter air carriers and all-cargo air transportations. See Attachment C for a listing of all certified air carriers.

d. Question: How will states determine if the individual has “qualifying employment?”

Answer: Unlike other emergency extensions, including the basic TEUC program, for TEUC-A it will be necessary to verify whether at least one base period employer provided qualifying employment. We have prepared and attached a draft form that SWAs may elect to use in contacting employers (See Attachment D).

The employer's failure to respond to the notice does not absolve the agency from the responsibility to pursue the necessary information to verify the qualifying employment. The claimant's statement may be evaluated if the employer does not respond, but the state must meet the same standards required for any nonmonetary determination as stated in the Secretary of Labor's “Standards for Claim Determinations”, Part V of the Employment Security Manual. This includes gathering evidentiary facts rather than conclusions, giving the claimant a reasonable opportunity to provide information when requested to do so, and obtaining the information promptly so that benefits will not be unduly delayed.

2. Claimants Potentially Eligible for TEUC Benefits Under This Extension

a. Question: What is the universe of claimants who are potentially eligible for TEUC-A under this extension?

Answer: All claimants that meet the definition of “eligible individual” as defined by Public Law 108-11 and otherwise meet the requirements for a TEUC benefit extension.

b. Question: Does the extended period for which TEUC-A is payable apply to all TEUC claims?

Answer: No. Only TEUC-A and TEUC-AX are payable during the extended period ending with the last week beginning on or before December 26, 2004.

c. Question: Does an individual who was separated from a certified air carrier prior to September 11, 2001, satisfy the definition of an “eligible individual”?

Answer: No. The definition of an “eligible individual” includes a requirement that the individual's regular benefits for the “applicable benefit year” be partially or wholly based on “qualifying employment.” To be deemed “qualifying employment,” the separation from such employment must have occurred on or after September 11, 2001 because of: (1) reductions in service by an air carrier as a result of a terrorist attack on the United States on September 11, 2001, or security measure taken in response to such attack; (2) a closure of an airport in the United States as a result of such terrorist action or security measure; or (3) a military conflict with Iraq that has been authorized by Congress.

d. Question: Does an individual who satisfies the definition of “eligible individual” but who exhausted TEUC in June 2002 and is still unemployed potentially qualify for benefits under this extension?

Answer: Yes.

e. Question: Does an “eligible individual” with intervening employment since separation from “qualifying employment” who does not qualify for a new regular claim, based on the intervening employment, continue to meet the definition of an “eligible individual” for purposes of this extension?

Answer: Yes.

f. Question: Does an individual who is separated from an air carrier or from otherwise qualifying airline related employment but whose regular benefits were not based, in whole or in part, on such employment, meet the definition of an “eligible individual” for purposes of TEUC-A?

Answer: No. To meet the definition of an “eligible individual” for purposes of TEUC-A, the claimant's regular benefits must have been based, in whole or in part, on “qualifying employment.” In the case described, there is no “qualifying employment” in the base period.

3. Applicable Benefit Year for Airline and Related Workers TEUC Extension Purposes

a. Question: Does an individual with a prior benefit year, where regular benefits were based on “qualifying employment,” who is eligible for regular benefits in a subsequent benefit year have the option to receive TEUC-A based on the first benefit year?

Answer: No. An individual with existing entitlement to regular compensation is not an exhaustee for TEUC-A purposes.

4. Monetary Eligibility

a. Question: What is the maximum amount of TEUC-A benefits available to an “eligible individual?”

Answer: Basic TEUC-A entitlement for “eligible individuals” will be determined as the lesser of 150 percent of the MBA of regular benefits payable to the individual during the benefit year or 39 times the individual's AWBA payable during the benefit year for a week of total unemployment. If the state includes dependents' allowances in the calculation of the weekly benefit amount (WBA) for regular benefits, the same rule applies to the calculation of TEUC-A benefits. If the state calculates dependents' allowances separate from the WBA, the state will apply the same rule to the determination for TEUC-A.

The TEUC-A account of an individual exhausting basic TEUC-A with payment for a week of unemployment beginning after April 16, 2003, and during an extended benefit (EB) period or TEUC-X period in the state, will be augmented by an amount equal to one-third (⅓) of the basic TEUC-A amount.

b. Question: When an “eligible individual” is in current claim status with an existing basic TEUC or TEUC-X balance what should the state do?

Answer: The SWA will issue a TEUC-A monetary redetermination to each “eligible individual” who has an existing TEUC balance, as of the effective date of TEUC-A, in an amount that is the lesser of 150 percent of the regular benefit MBA or 39 times the AWBA. All TEUC benefits, including TEUC-X, previously paid will reduce the available basic TEUC-A balance available. The available balance attributable to the redetermination is payable for weeks of unemployment beginning after April 16, 2003. Any TEUC-X previously paid becomes basic TEUC-A payments under the redetermination.

c. Question: When an “eligible individual” has exhausted basic TEUC prior to the effective date of this extension, what should the state do other than providing notification of the extension?

Answer: When this claimant files an additional or reopened claim, the SWA will issue a basic TEUC-A monetary redetermination in an amount that is the lesser of 150 percent of the regular benefit MBA or 39 times the AWBA. All TEUC benefits previously paid will reduce the available TEUC-A balance available. The basic TEUC-A balance available as a result of the redetermination is payable for weeks of unemployment beginning after April 16, 2003.

d. Question: When an “eligible individual” has exhausted TEUC-X prior to the effective date of this extension, what should the state do other than providing notification of the extension?

Answer: When this claimant files an additional or reopened claim, the SWA will issue a TEUC-A monetary redetermination in the amount of the lesser of 150 percent of the regular benefit MBA benefit amount or 39 times the AWBA effective for weeks of unemployment beginning after April 16, 2003. All basic TEUC and TEUC-X benefits previously paid will reduce the available TEUC-A balance available and are considered basic TEUC-A payments. The basic TEUC-A balance available as a result of the redetermination is payable for weeks of unemployment beginning after April 16, 2003.

e. Question: Can TEUC-AX augmentations continue to be made during the transition period?

Answer: No.

f. Question: Can a new TEUC-A monetary determination be issued effective for a week ending on or after December 29, 2003?

Answer: No.

BILLING CODE 4510-30-P

BILLING CODE 4510-30-C

Employment and Training Administration Advisory System

U.S. Department of Labor, Washington, D.C. 20210

Classification: OWS

Correspondence symbol: DUIO

Date: May 7, 2003

Advisory: Unemployment Insurance Program Letter No. 30-02, Change 3.

To: All State Workforce Agencies.

From: Cheryl Atkinson s/s, Administrator, Office of Workforce Security.

Subject: Temporary Extended Unemployment Compensation (TEUC) Act of 2002—Additional TEUC for Displaced Airline and Related Workers.

1. Purpose. To respond to questions concerning implementation of the TEUC extension for displaced airline and related workers.

2. References. Title II of the Job Creation and Worker Assistance Act of 2002 (The Temporary Extended Unemployment Compensation Act of 2002), Public Law 107-147, signed by the President on March 9, 2002; Public Law 108-1, signed by the President on January 8, 2003; UIPL No. 30-02 dated July 5, 2002; UIPL No. 30-02, Change 1 dated January 9, 2003; UIPL No. 30-02, Change 2 dated April 25, 2003; Section 4002 of Public Law 108-11, signed by the President on April 16, 2003; Section 205 of the Federal-State Extended Unemployment Compensation Act of 1970, as amended; Section 233 of the Trade Act of 1974; 20 CFR Part 615; ET Handbook No. 401; ET Handbook No. 410.

3. Background. This advisory continues the Department's guidance concerning the TEUC program extension for airline and related workers (hereafter referred to as TEUC-A) by answering questions submitted by states. The answers address specific circumstances consistent with the Department's interpretation of Section 4002 of Public Law 108-11 which creates special rules for determining eligibility for TEUC-A. Please note: There is a typographical error in Attachment A to UIPL No. 30-02, Change 2, page 3. Section (3) ADDITIONAL WEEKS OF BENEFITS, (B) should read as follows: “in subsection (c)(1), by inserting “⅓ of” after “equal to”.

Rescissions: None

Expiration Date: Continuing.

The attached questions and answers are organized by category in order to make it easier to find questions and answers of interest.

4. Action Required. Administrators are requested to provide this advisory to appropriate staff and ensure adherence to the guidance.

5. Inquiries. Inquiries should be directed to your Regional Office.

6. Attachment. Questions and Answers for Clarification of Section 4002 of Public Law 108-11.

Attachment to UIPL No. 30-02, Change 3—Questions and Answers for Clarification of Section 4002, of Public Law 108-11

1. Administrative

a. Question: Item 7.a. of UIPL No. 30-02, Change 2, indicates that “To satisfy this requirement, State Workforce Agencies (SWAs) must send written notifications to each individual who was laid off from a base period employer on or after September 11, 2001. SWAs must send immediate written notification to each such individual who has exhausted all available TEUC benefits from the beginning of the TEUC program.” Shouldn't a notice be sent to anyone laid off after September 11, 2001, regardless of whether he/she exhausted TEUC?

Answer: No. If a claimant's most recent separation from each base period employer was prior to September 11, 2001, written notice is not sent because the claimant is not eligible for TEUC-A. Written notices must be sent to individuals who were laid off from a base period employer on or after September 11, 2001, and who are exhaustees for TEUC purposes, because whether or not they exhausted TEUC, they are potentially eligible for TEUC-A. The statement pertaining to immediate notification of TEUC exhaustees was intended to identify potentially eligible claimants that should be notified quickly because they may still be unemployed and without benefits. Other potentially eligible claimants that must be provided written notice as soon as possible are those claimants laid off by a base period employer after September 11, 2001, that have a remaining balance on their TEUC claim. These claimants are generally in benefit status or have returned to work and are not in need of an immediate TEUC-A determination in order to have benefits available.

b. Question: For TEUC or TEUC-X exhaustees, are initial claims required to initiate a determination of TEUC-A eligibility?

Answer: Yes, depending on each individual claimant's situation, e.g., quarter change, benefit year ending, intervening employment, etc. The state must follow the same procedures as apply when there is a break or quarter change during the TEUC claim. The state must determine if the claimant still meets the basic requirements for TEUC.

c. Question: Must states determine if an individual has “qualifying employment” prior to making any TEUC-A payments? If so, should they allow their standard time for employers to respond?

Answer: Yes to both questions. Until the state has determined that the claimant is an “eligible individual,” no TEUC-A account may be established. However, if the claimant has not previously received a TEUC determination, the state must issue a TEUC determination and make payments pending redetermination to TEUC-A, if appropriate. Employers are to be given the same amount of time to respond to the request for information as they are normally given under state law.

d. Question: If a claimant is currently in basic TEUC status, must the state automatically commence converting the individual to TEUC-A?

Answer: No. Claims may not be automatically converted to TEUC-A. The state must first determine if the claimant is an “eligible individual” for TEUC-A purposes. Potentially eligible claimants receiving basic TEUC or TEUC-X must be advised of the TEUC-A option. States should advise claimants in current claim status of the TEUC-A option early enough to allow for the TEUC-A determination to be made before the claimant exhausts to prevent an interruption of payments to TEUC-A eligible claimants.

e. Question: Do all base period employers need to be notified or just the employer that the claimant identifies as being in “qualifying employment?”

Answer: In general, each base period employer from which the claimant was laid off on or after September 11, 2001, must be contacted because the state may not issue an ineligible determination without establishing that the claimant does not have “qualifying employment.” However, in cases where the claimant appears on a qualified employer's list of individuals that were separated for one of the qualifying reasons, there is no need to contact other employers because the state has sufficient information to determine that the claimant is an “eligible individual.”

f. Question: An individual is about to exhaust regular benefits and the state is prepared to notify the individual of the TEUC program. Because the individual will be eligible for basic TEUC, is it necessary to immediately investigate the claimant's eligibility for TEUC-A?

Answer: No. However, states should notify individuals of the TEUC-A option at the time of the TEUC initial claim in order to identify claims needing TEUC-A determinations. Notice of TEUC-A should be given no later than at the time of the issuance of the basic TEUC monetary determination. This notice will provide enough time for a TEUC-A determination before exhaustion of TEUC to avoid interruptions in payments to TEUC-A eligible claimants.

Upon finding that the individual is eligible for TEUC-A, the state will redetermine the claim to TEUC-A and report a redetermination in the comments section of the ETA 5159 as a TEUC-A redetermination.

g. Question: What is the last date that a new TEUC-A claim can be effective?

Answer: The last week for which a TEUC-A determination can be effective is the week that ends prior to December 29, 2003. That is the week ending December 27, 2003, for all states except New York where it is December 28, 2003.

h. Question: What is the last week for which TEUC-A can be paid?

Answer: The last week a TEUC-A claim can be paid is the last week beginning on or before December 26, 2004. That is the week beginning December 26, 2004, for all states except New York where it is December 20, 2004.

2. Applicable Benefit Year for TEUC-A Purposes

a. Question: If an individual has received TEUC based on a prior benefit year and has also received TEUC based on a subsequent benefit year that is redetermined to TEUC-A, must the amounts of TEUC previously paid for both TEUC claims be deducted to establish the remaining TEUC-A balance?

Answer: No. Only the TEUC benefits paid based on the same benefit year as the TEUC-A claim are deductible.

b. Question: An individual who has a TEUC-A claim is determined eligible for regular benefits for a new benefit year. Upon exhaustion of the regular benefits based on the new benefit year, may the claimant elect to receive TEUC-A based on the prior claim instead of the most recent benefit year?

Answer: No. The determination of TEUC-A eligibility must be based on the “applicable benefit year,” which in the scenario cited above is the most recent benefit year. Also, whether or not the claimant is an “eligible individual” for TEUC-A purposes must be based on the base period employment for the “applicable benefit year” and the associated separation(s).

3. Monetary Eligibility

a. Question: An individual has two base period employers. Employment with one employer is “qualifying employment,” while employment with the other is not. Which employment is the individual's monetary eligibility based on?

Answer: The TEUC-A monetary calculation formula uses other factors and is not based on the amount of the base period wages from “qualifying employment.” TEUC-A monetary entitlement is based on the calculation of the lesser of 150 percent of the regular benefit maximum benefit amount (MBA) or 39 times the average weekly benefit amount (AWBA).

b. Question: TEUC-A benefits are applicable only to weeks beginning on or after the date of enactment, but all TEUC and TEUC-X benefits previously paid are to be deducted from the TEUC-A calculated MBA to create the TEUC-A account balance. Some TEUC and/or TEUC-X weeks claimed prior to enactment of Public Law 108-11 may not be paid until after the TEUC-A account balance has been established. May these weeks be paid from the balance available in the TEUC-A account?

Answer: Yes. The amount paid for all TEUC and TEUC-X compensable weeks is deductible from the redetermined TEUC-A MBA. When the payments are issued is immaterial. However, the MBA payable as TEUC and TEUC-X for weeks of unemployment ending prior to April 16, 2003, may not exceed the original TEUC amount of the lesser of 50 percent of the MBA or 13 times the AWBA, plus an additional amount up to 13 times the AWBA in high unemployment states. Therefore, after the TEUC-A determination is made, if there are weeks of unemployment prior to the first week beginning after April 16, 2003, for which the claimant is determined eligible, payments can be made but only up to the MBA payable for TEUC (and TEUC-X, if applicable).

c. Question: The claimant has exhausted TEUC in a state that has not been and is not in an extended benefit (EB) or TEUC-X period. What is the MBA payable based on a TEUC-A determination?

Answer: The TEUC-A monetary determination is calculated at the lesser of 150 percent of the MBA of the regular claim or 39 times the AWBA minus the TEUC previously paid based on the “applicable benefit year,” creating a TEUC-A balance payable of up to 26 times the AWBA. If the claimant exhausts TEUC-A while the state is in an EB or TEUC-X period, the claimant's account will be augmented by an amount equal to ⅓ of the TEUC-A MBA, thereby creating a TEUC-AX balance.

d. Question: The claimant has exhausted TEUC and TEUC-X in a state that is currently not in an EB or TEUC-X period. What is the MBA payable based on a TEUC-A determination?

Answer: The TEUC-A monetary is calculated at the lesser of 150 percent of the MBA of the regular claim or 39 times the AWBA minus the TEUC and TEUC-X previously paid based on the “applicable benefit year,” creating a balance payable of up to 13 times the AWBA. If the claimant exhausts TEUC-A while the state is in an EB or TEUC-X period, the claimant's account will be augmented by an amount equal to ⅓ of the TEUC-A MBA, thereby creating a TEUC-X balance.

e. Question: The claimant has exhausted TEUC and TEUC-X in a state that is currently in an extended benefit or TEUC-X period. What is the MBA payable based on a TEUC-A determination?

Answer: The TEUC-A monetary determination is calculated at the lesser of 150 percent of the MBA of the regular claim or 39 times the AWBA minus the TEUC and TEUC-X previously paid based on the “applicable benefit year,” creating a TEUC-A balance of up to 13 times the AWBA. If the claimant exhausts TEUC-A after the state's EB or TEUC-X period has triggered “off,” no additional TEUC-A benefits are payable. If the claimant exhausts while the state is in an EB or TEUC-X period, the claimant's account will be augmented by an amount equal to 1/3 of the TEUC-A MBA, thereby creating a TEUC-X balance.

4. Base Period Twenty—Weeks of Work Requirement

a. Question: To be eligible for TEUC-A, must the individual's “qualifying employment” in the base period meet the 20 weeks of full-time work or the equivalent in insured wages requirement?

Answer: No. The claimant's total base period employment and wages must meet the “20 weeks of work” requirement.

5. Determining if an Individual Is an “Eligible Individual” for TEUC-A Purposes

a. Question: The individual had “qualifying employment” during the base period of the prior benefit year. The new benefit year has no “qualifying employment.” Is this individual an “eligible individual?”

Answer: No. For purposes of determining TEUC, and therefore TEUC-A eligibility, the “applicable benefit year” is the current or most recent benefit year. (See UIPL No. 30-02, pages II-1 and III-2.)

b. Question: The state has completed its TEUC-A fact-finding and is ready to issue a determination. What type of determination should be issued?

Answer: If the state determines an individual is eligible for TEUC-A, the state will issue or document an eligible nonmonetary determination and issue a TEUC-A monetary determination or redetermination, as appropriate. If the state determines an individual is ineligible for TEUC-A, the state will issue an ineligible nonmonetary determination only. In either case, the nonmonetary determination is reportable under “Miscellaneous” on the TEUC ETA 207 report.

c. Question: The individual had no “qualifying employment” in the base period, but did have “qualifying employment” in the lag period. Is this individual an “eligible individual?'

Answer: No. In order for a claimant to be determined an “eligible individual” for TEUC-A purposes, “qualifying employment” must have been used in the determination of regular compensation for the “applicable benefit year.”

d. Question: Do claimants have appeal rights if determined not eligible for TEUC-A?

Answer: Yes. States must provide the same appeal rights provided for determinations for regular benefits.

e. Question: Is a monetary determination notice sufficient to advise claimants they are not eligible for TEUC-A?

Answer: No. An appealable nonmonetary determination is required if a claimant is determined ineligible for TEUC-A.

f. Question: Since employers are being contacted to determine “qualifying employment,” are they interested parties to the determination?

Answer: No. Employers are not interested parties because their accounts are not potentially chargeable for TEUC-A.

g. Question: After issuing an eligible determination, the state receives late information from an employer that contradicts the claimant's statement. Is the state required to issue a redetermination or does the state follow its regular procedures?

Answer: Late information received from the employer must be considered. If it supports a denial of benefits, a redetermination must be issued. This procedure may differ from state law provisions prohibiting the use of information received after a decision has been issued. Such state provisions are intended to penalize an employer who has not complied with state law provisions concerning employer response. However, the employer is not an interested party to a TEUC-A determination and these state provisions must not be applied.

6. Determining if the Employment is “Qualifying Employment”

a. Question: Qualifying separations include those due to “military conflict with Iraq.” Must separations due to the “military conflict with Iraq” be related to employment with a certified air carrier, employment at a facility at an airport, or employment with an upstream producer or supplier for an air carrier?

Answer: Yes. The separation has to be from employment with a certified air carrier, employment at a facility at an airport, or employment with an upstream producer or supplier for a certified air carrier. A separation due “in whole or in part” to the military conflict with Iraq is a qualifying separation for purposes of establishing “qualifying employment.”

b. Question: Eight thousand servicemembers from a local military base were sent to Iraq. Are the local businesses that have suffered a loss of business due to the deployment considered to have provided “qualifying employment” or is that designation limited to airline-related employment?

Answer: The designation “qualifying employment” is limited to airline-related employment from which the individual was separated for a qualifying reason. Therefore, employment with a non-airline related employers who have suffered a loss of business due to the deployment of large number of military servicemembers from the community is not “qualifying employment.”

c. Question: If the claimant's regular benefit entitlement is determined using an alternate base period, are the normally lag period wages that are used in the determination “qualifying employment” if all other conditions are met?

Answer: Yes. If regular entitlement is determined using the alternate base period, that is the base period for purposes of determining “qualifying employment.”

d. Question: During the base period, the claimant was employed with an air carrier and was separated for a nonqualifying reason. Subsequent to establishing the “applicable benefit year,” the claimant returned to work with that employer and was separated for a qualifying reason. Would this separation establish the base period employment as “qualifying employment?'

Answer: Yes. The qualifying separation does not have to occur during the base period. In most cases it will probably occur during the lag period.

e. Question: The term “qualifying employment” as expressed in the law provides that separation from the employment must be due “in whole or in part” to one of three conditions. Is it possible that an individual can have employment with more than one base period employer that can be considered qualifying employment?

Answer: Yes.

f. Question: There are several hotels “offsite” along the main road of the airport. Would these hotels qualify as hotels at the facility?

Answer: No. Employment with a hotel that is not physically located on the grounds of the airport and that does not provide functions that are integrally related to the operation of the airport, is not “employment at a facility at an airport.” A “facility at an airport” includes any facility that is physically located on the grounds of an airport or those offsite businesses/facilities that provide functions that are integrally related to the operation of the airport. An offsite hotel may be convenient, but it is not “integrally related to the operation of the airport.”

g. Question: A hotel located offsite near an airport had a contract with a certified air carrier to supply a certain number of rooms each night for airline personnel. Due to a reduction in the air carrier's flights, the contract with the hotel was canceled. Does the hotel meet the definition of a “supplier” for TEUC-A purposes?

Answer: Yes. This hotel is a “supplier” that provided services to a certified air carrier.

h. Question: An individual worked as a security screener at an airport. In response to the terrorist actions of September 11, 2001, this function was transferred to the newly created federal Transportation Security Administration (TSA). The individual was not hired by the TSA and is, as a result, now unemployed. Is this a qualifying reason for separation for TEUC-A purposes?

Answer: No. The above individual worked at a facility at an airport and was separated from employment due to a security measure taken in response to the terrorist actions of September 11, 2001. However, to have “qualifying employment,” the individual must have been separated because of reductions in service by an air carrier or the closure of an airport in the United States. This did not occur under the scenario described. Rather, the individual was separated because the TSA took over security at the airport.

i. Question: The claimant has a qualifying employer during the base period and a qualifying separation from that employer. The claimant is subsequently reemployed by the employer and has a disqualifying separation. Is this claimant's first separation from this employer a qualifying separation for TEUC-A purposes?

Answer: No. The definition of an “eligible individual” requires the individual to be separated from “qualifying employment.” The determination that base period employment constitutes “qualifying employment” includes a determination that the claimant was separated from the base period employment for a qualifying reason. In this case, although this claimant was separated after September 11, 2001, for a qualifying reason, when the employer recalled the claimant, the claimant was no longer separated from this employer. The claimant's subsequent separation from this base period employer is not for one of the three qualifying reasons.

j. Question: The claimant has base period employment with two potentially qualifying employers. One employer laid the individual off after September 11, 2001, for a qualifying reason; the other employer fired the claimant after September 11, 2001, for gross misconduct. Does this claimant have a qualifying separation, and is he/she eligible for TEUC-A?

Answer: Whether this claimant is “eligible” to receive TEUC-A depends on whether he/she has requalified if there was a misconduct disqualification. However, this claimant has “qualifying employment” and meets the definition of “eligible individual” for TEUC-A monetary determination purposes because he/she is separated from a base period employment for a qualifying reason. This situation is different from the individual with two separations from the same employer in that the non-qualifying separation from one base period employer does not nullify the qualifying separation from another base period employer. The issue is not whether the claimant's separation from his/her most recent potentially qualifying employment is qualifying, it is whether the claimant has “qualifying employment,” and this claimant does. However, to receive TEUC-A benefits, the individual must still meet all other eligibility requirements. Therefore, if the claimant has been disqualified, no TEUC-A is payable until the claimant has requalified.

k. Question: The claimant worked at an airport construction site building a parking ramp or remodeling a building. Would this employment be considered “employment at a facility at an airport?”

Answer: Yes. Although the employer's office may have been located offsite, the claimant's employment at the construction site on the airport grounds constitutes “employment at a facility at an airport.” However, in order for the claimant to be an “eligible individual,” he/she must have been laid off from work at the airport construction site for one of the three qualifying reasons.

l. Question: Is a company that makes and supplies parts to an aircraft manufacturer that sells airplanes to a certified air carrier a “supplier” for purposes of TEUC-A?

Answer: Yes, because the air carrier is certified. However, to satisfy the definition of “qualifying employment,” the separation from the base period employment must be for a qualifying reason.

m. Question: Is a company that is contracted to install phones or computer equipment at an airport considered a “supplier” for an air carrier?

Answer: Yes, if the contract is with a certified air carrier. Also, the individual(s) installing the equipment on the airport grounds is performing services “at a facility at an airport.” Therefore, the employment satisfies the definition of “qualifying employment” if the separation was for one of the three qualifying reasons.

n. Question: A foreign air carrier has suffered a loss in business associated with the terrorist actions of September 11, 2001, and has laid off workers at airports throughout the United States. Does this employer meet the definition of an “air carrier” for purposes of TEUC-A?

Answer: No. An “air carrier” for purposes of TEUC-A is defined as “an air carrier that holds a certificate issued under chapter 411 of title 49, United States Code.” We have been advised by the Federal Aviation Administration that foreign air carriers are not issued such certificates. However, if this employer is located at an airport, then services performed for it at the airport represent “employment at a facility at the airport.” To qualify, however, the individual must have a qualifying separation. Because the reduction in service was not by a certified air carrier, the layoff must be due to one of the other two qualifying reasons, i.e., due to an airport closure as a result of the terrorist actions of September 11, 2001, or due to the military conflict in Iraq.

o. Question: Due to a drop in business after the terrorist actions of September 11, 2001, a foreign air carrier cancels its contract with the local caterer whose sole contract was with this air carrier. The caterer goes out of business, laying off all of its workers. Does the caterer meet the definition of an “upstream producer” or “supplier” for TEUC-A purposes?

Answer: No. The caterer does not meet the definition of “supplier” because the products and services were not provided to a qualifying “air carrier” as defined in section 4002(a)(3) of Public Law 108-11.

p. Question: A manufacturer or supplier of private aircraft exclusively to individuals and non-airline related businesses laid off workers after the terrorist actions on September 11, 2001, when sales of the private aircraft were reduced. Does this constitute “qualifying employment” for purposes of TEUC-A?

Answer: No. Section 4002(a)(3) of Public Law 108-11 is clear in its definition of an “air carrier” for purposes of TEUC-A. Therefore, if the reduction in business is not due to reduction in service by a certified air carrier, the employment does not meet the definition of “qualifying employment.”

q. Question: The TSA announced that later this year it will cut 11% of the security screeners at the nation's airports. Does this employment at airports with the TSA constitute “qualifying employment” for TEUC-A purposes?

Answer: No. These layoffs are not due to a qualifying reason for separation, i.e., layoffs due to a reduction in service by the certified air carrier due to the September 11, 2001, terrorist actions or security measures taken in response thereto; closure of an airport for that reason; or the military conflict with Iraq.

r. Question: The meaning of the term “qualifying employment” includes “employment at a facility at an airport.” What is an airport?

Answer: Title 49, Section 40102(g) of the United States Code defines “airport” as “a landing area used regularly by aircraft for receiving or discharging passengers or cargo.”

7. Determining if the Separation Is a Qualifying Separation

a. Question: The claimant worked in employment with a supplier of services utilized by a certified air carrier and was disqualified for a voluntary quit at the time the benefit year was established. On appeal, the determination was reversed because the employer failed to appear and the claimant maintained that the separation was due to a lay-off for lack of work. The claimant has now filed for TEUC-A and the employer has responded to the TEUC-A request for information stating that the claimant was not separated for a qualifying reason. How is this determination handled?

Answer: Determining whether or not the claimant's separation was for a qualifying reason for TEUC-A purposes is not the issue that was previously determined. Here, the appellate body found that the lay-off was for lack of work. The state need only determine for TEUC-A qualifying purposes if the lack of work was for a qualifying reason. A determination that the claimant was not laid off for one of the TEUC-A qualifying reasons does not contradict the appellate decision.

b. Question: States are required to determine if the claimant is an “eligible individual” for TEUC-A purposes. Making this determination involves determining if the claimant's base period employment used in the monetary determination for regular benefits meets the definition of “qualifying employment” which includes a determination of whether or not the claimant was separated for a qualifying reason. What section of law does the state cite in its nonmonetary determination and where are these determinations reported on the TEUC ETA 207?

Answer: The state should cite Section 4002(a) of Public Law 108-11. The nonmonetary determination is reportable as “Miscellaneous” in column 17, line 202 of the ETA 207 TEUC report. (See Items 14.c. and d.)

c. Question: Information provided by the employer indicates that the employment is “qualifying employment,” but the state has reason to doubt the accuracy of this information. Is the state required to accept the employer's statement?

Answer: No. However, the state must have credible information to refute the employer's assertion and to support a determination of TEUC-A ineligibility.

d. Question: State National Guard and Air National Guard members were activated by the state and deployed to guard the airports. Does their deactivation constitute a “qualifying separation” for TEUC-A purposes?

Answer: No. The deactivation of the State National Guard and Air National Guard was not due to a qualifying reason for separation, i.e., layoffs due to a reduction in service by the certified air carrier due to the September 11 terrorist actions or security measures taken in response thereto; closure of an airport for the same reason(s); or the military conflict with Iraq.

e. Question: State National Guard and Air National Guard members were activated and deployed by the federal government during the military conflict with Iraq. Does their deactivation constitute a qualifying separation for TEUC-A purposes?

Answer: No. The federal government cannot be construed as a certified air carrier, a facility at an airport, or a supplier to a certified air carrier. Nor is the federal government a “firm.” These are the terms used in the TEUC-A provisions to describe the employer or type of employment that potentially constitute “qualifying employment.” Because military service to the government is not potentially “qualifying employment,” the reason for separation is not a potentially qualifying separation.

f. Question: Military reservists were activated and deployed due to the military conflict with Iraq. When they are unable to return to their previous employment with an air carrier, employment at a facility at an airport, or with an upstream producer or supplier for an air carrier for one of the qualifying reasons for separation, are they considered to be separated from “qualifying employment” for TEUC-A purposes?

Answer: Yes. Such reservists' inability to return to their prior employer/employment for a reason that satisfies the requirements of Section 4002(a)(2)(A) of P.L. 108-11, constitutes a “qualifying separation” from that employer. If that employment was used in the determination of eligibility for regular benefits, it constitutes “qualifying employment” for TEUC-A purposes.

g. Question: Would individuals who worked as travel agents or reservation agents who in whole or in part book passengers for certified air carrier flights be considered as “suppliers” or employees of “suppliers” for TEUC-A purposes?

Answer: Yes. Travel and reservation agents/agencies perform written or implied contract services for certified air carriers by booking passengers' flights. If travel agents did not book the certified air carrier's flights, the certified air carriers themselves would be required to book the flights. Thus, these agents supply services to certified air carriers. If their separation is for a qualifying reason, they have “qualifying employment.”

8. Adjudication of Issues Arising Subsequent to “Qualifying Employment”

a. Question: An “eligible individual” has had subsequent employment since the “qualifying employment” and is terminated from the subsequent employment for a disqualifying reason. Does this affect the individual's eligibility for TEUC-A?

Answer: Maybe. When an individual has been determined to be an “eligible individual” for TEUC-A purposes, that determination only means that the individual is entitled to a monetary determination using the formula that applies to TEUC-A. To receive TEUC-A benefits, the individual must still meet all other eligibility requirements. Therefore, if the claimant has been disqualified, no TEUC-A is payable until the claimant has requalified.

9. Interstate Benefits/Combined Wage/ICON Applications

a. Question: How will “eligible individuals” be identified by the paying state if potentially “qualifying employment” on a combined-wage claim is from a transferring state?

Answer: If the claimant responds to a notice of potential eligibility to TEUC-A, the request for information will be sent directly to the employer in the other state. If the employer is an obvious “large employer” (such as a certified air carrier) that may have already provided the transferring state with information about the claimant, the paying state may instead arrange to check with the transferring state.

b. Question: A claimant has employment in more than one state and has base period employment that would satisfy the definition of “qualifying employment.” However, it was not used in the monetary determination of the regular claim because the claimant was eligible for the maximum benefit amount payable under the liable state's law without filing a combined wage claim (CWC). Does this claimant have “qualifying employment” for TEUC-A purposes?

Answer: Under the TEUC-A law, an “eligible individual” is one whose eligibility for TEUC “is or would be based on the exhaustion of regular compensation under state law, entitlement to which was based in whole or in part on qualifying employment performed during such individual's base period.” The language “would be” permits consideration of employment, for purposes of determining qualifying employment, that the individual chose to exclude from base period employment under a CWC.

10. TEUC-A Eligibility for Individual Filing From Canada

a. Question: May individuals filing from Canada qualify for TEUC-A?

Answer: Yes, if they meet the definition of an “eligible individual.”

11. TEUC-A Effect on Trade Readjustment Assistance (TRA)

a. Question: Original TEUC benefits were deducted from claimants' “basic” TRA entitlement. Is TEUC-A also deductible from TRA entitlement?

Answer: Yes. The same rules apply.

12. Short-Time Compensation Program

a. Question: Employers opted to participate in the state's short-time compensation (or worksharing program) or otherwise reduced workers' hours in lieu of lay offs. Would these situations be considered “qualifying separations” for TEUC-A purposes?

Answer: Yes, if the reduction in work hours or weeks by a qualifying employer was caused by one of the three qualifying reasons.

13. TEUC-A Benefit Funding

a. Question: Will TEUC-A be funded separately from TEUC?

Answer: No.

14. Reporting Requirements

a. Question: How will TEUC-A and AX claims and benefit activity be reported?

Answer: See the reporting instructions in UIPL 30-02, Change 2, Item 11.

b. Question: Must TEUC-A benefit activity be reported separately from other TEUC activity?

Answer: No. TEUC, TEUC-X, TEUC-A and TEUC-AX are all reported together on the TEUC reports. However, states are to report a breakout in the comments section of the ETA 5159 of the number of TEUC-A determinations and redeterminations. See reporting instructions in UIPL No. 30-02, Change 2, Item 11.

c. Question: Will nonmonetary determinations of “eligible individuals” for TEUC-A be reported on the ETA 207 as countable determinations?

Answer: Yes.

d. Question: Does the outcome of the “eligible individual” nonmonetary determination (eligible/not eligible) affect what type of issue is reported on the ETA TEUC-A 207 and would it be reported the same on all reports?

Answer: Whether or not the claimant is an “eligible individual” is a nonseparation nonmonetary determination reportable in the miscellaneous column of the TEUC-A ETA 207 regardless of the outcome of the determination. The TEUC-A ETA 207 is the only report where TEUC nonmonetary determinations will be reported.

e. Question: Is a separate SF-269 required for reporting TEUC-A administrative costs?

Answer: No. There is only one TEUC program. The TEUC-A and AX costs are included on the SF 269 for the TEUC program.

[FR Doc. 03-14857 Filed 6-12-03; 8:45 am]

BILLING CODE 4510-30-P